DEPARTMENT OF COMMERCE

National Oceanic and Atmospheric Administration

Evaluation of State Coastal Management Programs and National Estuarine Research Reserves

AGENCY: National Oceanic and Atmospheric Administration (NOAA), Office of Ocean and Coastal Resource Management, National Ocean Service, Commerce.

ACTION: Notice of Intent to Evaluate.

SUMMARY: The NOAA Office of Ocean and Coastal Resource Management (OCRM) announces its intent to evaluate the performance of the Tijuana River (California), North Carolina, and Kachemak Bay (Alaska) National Estuarine Research Reserves.

The National Estuarine Research Reserve evaluations will be conducted pursuant to sections 312 and 315 of the CZMA and regulations at 15 CFR Part 921, Subpart E and Part 923, Subpart L. Evaluation of National Estuarine Research Reserves requires findings concerning the extent to which a state has met the national objectives, adhered to its Reserve final management plan approved by the Secretary of Commerce, and adhered to the terms of financial assistance awards funded under the CZMA.

Each evaluation will include a site visit, consideration of public comments, and consultations with interested Federal, state, and local agencies. A public meeting will be held as part of the site visit. Notice is hereby given of the dates of the site visits for the listed evaluations, and the dates, local times, and locations of the public meetings during the site visits.

DATES AND TIMES: The Tijuana River (California) National Estuarine Research Reserve evaluation site visit will be held April 13-17, 2009. One public meeting will be held during the week. The public meeting will be held on Wednesday, April 15, 2009, at 7 p.m. at the Tijuana River National Estuarine Research Reserve, Tijuana Estuary Visitor Center, 301 Caspian Way, Imperial Beach, California.

The North Carolina National Estuarine Research Reserve evaluation site visit will be held April 20-24, 2009. Two public meetings will be held during the week. The first public meeting will be held on Tuesday, April 21, 2009, at 7 p.m., at the University of North Carolina-Wilmington, Center for Marine Science Auditorium, 5600 Marvin K. Moss Lane, Wilmington, North Carolina. The second public meeting will be held on Wednesday, April 22, 2009, at 7 p.m., at the Center for Coastal Fisheries and Habitat Research, NOAA/NCNERR Administration Building Auditorium, 101 Pivers Island Road, Beaufort, North Carolina.

The Kachemak Bay (Alaska) National Estuarine Research Reserve evaluation site visit will be held April 28-May 1, 2009. One public meeting will be held during the week. The public meeting will be held on Tuesday, April 28, 2009, at 6 p.m., at the Kachemak Bay National Estuarine Research Reserve, Alaska Islands and Ocean Visitor Center, Seminar Room, 95 Sterling Highway, Homer, Alaska.

ADDRESSES: Copies of states' most recent performance reports, as well as OCRM's evaluation notification and supplemental information request letters to the states, are available upon request from OCRM. Written comments from interested parties regarding these National Estuarine Research Reserves are encouraged and will be accepted until 15 days after the last public meeting held for a Reserve. Please direct written comments to Kate Barba, Chief, National Policy and Evaluation Division, Office of Ocean and Coastal Resource Management, NOS/NOAA, 1305 East-West Highway, 10th Floor, N/ORM7, Silver Spring, Maryland 20910. When the evaluation is completed, OCRM will place a notice in the Federal Register announcing the availability of the Final Evaluation Findings.

FOR FURTHER INFORMATION CONTACT: Kate Barba, Chief, National Policy and Evaluation Division, Office of Ocean and Coastal Resource Management, NOS/NOAA, 1305 East-West Highway, 10th Floor, N/ORM7, Silver Spring, Maryland 20910, (301) 563-1182.

Dated: March 25, 2009.
David M. Kennedy,
Director, Office of Ocean and Coastal Resource Management, National Ocean Service, National Oceanic and Atmospheric Administration.

[FR Doc. E9-7235 Filed 3-31-09; 8:45 am]

BILLING CODE 3510-08-P